DEPARTMENT OF DEFENSE

Department of the Air Force

US Air Force Scientific Advisory Board Notice of Meeting

AGENCY: Department of the Air Force, US Air Force Scientific Advisory Board.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) quarterly meeting will take place on 8 April 2014 at Nellis AFB, NV and the Hyatt Place Hotel, 4520 Paradise Rd, Las Vegas, NV 89109. The SAB will meet on 8 April 2014 from 7:45 a.m.-3:45 p.m. at Nellis AFB for closed sessions and at the Hyatt Place Hotel, 4520 Paradise Rd, Las Vegas, NV 89109, from 5:00 p.m.-6:30 p.m. for an update on the SAB's Combating Sexual Assault study in a session open to the public.

The purpose of this quarterly meeting is to review the status of the FY14 SAB studies directed by the Secretary of the Air Force: Combating sexual assault, defending forward USAF bases, nuclear command, control, & communications; and technology readiness for hypersonic vehicles. The SAB will also receive presentations from the the USAF Warfare Center, the host for the SAB's Spring Board Meeting. The SAB will review the publication status of the FY13 studies, the latest updates on the ongoing study outbriefs, as well discuss the SAB's review of Air Force Research Laboratory (AFRL) science and technology investments. The remaining FY14 Board schedule will also be discussed. In accordance with 5 U.S.C. 552b, as amended, and 41 CFR 102-3.155, this meeting of the United States Air Force Scientific Advisory Board will be partially closed to the public because it will involve information and matters covered by sections 5 U.S.C. 552b(c)(1) and (2).

Any member of the public wishing to attend the public session at the Hyatt Place hotel or to provide input to the United States Air Force Scientific Advisory Board must contact the Designated Federal Officer at least five days prior to the meeting date. Please submit written statements in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Deputy Executive Director and Designated Federal Officer, Lt Col Derek Lincoln, 240-612-5502, United States Air Force Scientific Advisory Board, 1500 West Perimeter Road, Ste. #3300, Joint Base Andrews, MD 20762, derek.m.lincoln.mil@mail.mil.

Tommy W. Lee,
Acting Air Force Federal Register Liaison Officer.

[FR Doc. 2014-05615 Filed 3-13-14; 8:45 am]

BILLING CODE 5001-05-P